UNITED STATES SECTION OF THE INTERNATIONAL BOUNDARY AND WATER COMMISSION

22 CFR Part 1100

Employee Responsibilities and Conduct; Removal of Superseded Regulations and Addition of Residual Cross-References

AGENCY: United States Section of the International Boundary and Water Commission (USIBWC).

ACTION: Final rule.

SUMMARY: The United States Section of the International Boundary and Water Commission is repealing its superseded old employee conduct regulations, which have been replaced by the executive branch Standards of Ethical Conduct, financial disclosure and financial interests regulations issued by the Office of Government Ethics (OGE). In place of its old conduct regulations, the USIBWC is adding a section of residual cross-references to those new provisions as well as to certain executive branch conduct rules promulgated by the Office of Personnel Management (OPM).

DATES: Effective Date: June 2, 2006.

FOR FURTHER INFORMATION CONTACT: Tony R. Chavez, Designated Agency Ethics Official, United States International Boundary and Water Commission, 4171 N. Mesa, Suite C-100, El Paso, Texas, Telephone, 915-832-4111, Fax 915-832-4196.

SUPPLEMENTARY INFORMATION: In 1992, OGE issued a final rule setting forth uniform Standards of Ethical Conduct and an interim final rule on financial disclosure, and in 1996 issued a final rule on financial interests, all for executive branch departments and agencies of the Federal Government and their employees. Those three executive branch-wide regulations, as corrected and amended, are codified at 5 CFR parts 2634, 2635 and 2640. Together those regulations have superseded the old USIBWC regulations on employee responsibilities and conduct, which have been codified at 22 CFR part 1100 (and were based on prior OPM standards). Accordingly, the USIBWC is removing its superseded regulations and adding in place thereof a new section containing residual cross-references to the new provisions at 5 CFR parts 2634, 2635 and 2640. In addition, the USIBWC is including in that section a reference to the separate, specific executive branch provisions regarding gambling, safeguarding the examination process and conduct prejudicial to the Government which are set forth in 5 CFR part 735, as amended and reissued by OPM in 1992. Those specific branch-wide restrictions are not covered in OGE's Standards of Ethical Conduct regulation; furthermore, they are self-executing and do not require any department or agency republication.

Matters of Regulatory Procedure

Administrative Procedure Act

As Designated Agency Ethics Official of the USIBWC, I have found, under 5 U.S.C. 553(a)(2) and (b), that the general requirements for proposed rule making and opportunity for public comment are not applicable as to this final rule since it relates solely to agency management and personnel as well as agency organization, practice and procedure.

List of Subjects in 22 CFR Part 1100

Conflict of interests.

For the reasons set forth in the preamble, the United States Section of the International Boundary and Water Commission is revising 22 CFR part 1100 to read as follows:

PART 1100—EMPLOYEE RESPONSIBILITIES AND CONDUCT

Authority: 5 U.S.C. 7301.

§ 1100.1 Cross-references to employee ethical conduct standards, financial disclosure and financial interests regulations and other conduct rules.

Employees of the United States Section of the International Boundary and Water Commission are subject to the executive branch standards of ethical conduct contained in 5 CFR part 2635, the executive branch financial disclosure regulations contained in 5 CFR part 2634, and the executive branch financial interests regulations contained in 5 CFR part 2640, as well as the executive branch employee responsibilities and conduct regulations contained in 5 CFR part 735.

Dated: April 26, 2006.
Tony R. Chavez,
Designated Agency Ethics Official, United States Section of the Internal Boundary and Water Commission.

[FR Doc. 06-4105 Filed 5-2-06; 8:45 am]

BILLING CODE 7010-10-P